DEPARTMENT OF THE INTERIOR

Bureau of Land Management

[ID-070-02-2824-DS-FF10]

Notice of Intent To Prepare a Fire, Fuels and Related Vegetation Management Direction Plan

AGENCY: Upper Snake River District, Bureau of Land Management (BLM),

ACTION: Notice of Intent to prepare a Fire, Fuels and Related Vegetation Management Direction Plan Amendment and Environmental Impact Statement (EIS) for 12 Land Use Plans within the Upper Snake River District in central and eastern Idaho.

SUMMARY: This document provides notice that the BLM intends to prepare a Fire, Fuels, and Related Vegetation Management Direction Plan Amendment with an associated EIS for the Upper Snake River District. This plan amendment will amend 12 existing Land Use Plans in four Field Offices: Burley, Shoshone, Idaho Falls and Pocatello. These 12 Land Use Plans consist of Management Framework Plans (MFP) and Resource Management Plans (RMP).

This planning activity encompasses approximately 5.3 million acres of public land within the Upper Snake River District. The planning process will comply with the Federal Land Policy and Management Act of 1976 (FLPMA) and the National Environmental Policy Act of 1969 (NEPA). The BLM will work closely with interested parties to identify the management decisions that are best suited to the needs of the public. This collaborative process will take into account local, regional, and national needs and concerns. This notice initiates the public scoping process to identify specific issues and develop planning criteria. The scoping process will include an evaluation of the needs and interests of the public.

DATES: The scoping comment period will commence with the publication of this notice. Formal scoping will end 60 days after publication of this notice. Comments regarding issues and planning criteria should be received on or before the end of the scoping period at the address listed below.

Public meetings will be held throughout the plan scoping and preparation period. In order to ensure local community participation and input, public meetings will most likely be held in Burley, Shoshone, Idaho Falls, and Pocatello. Specific dates and locations for public participation will be published in local papers and broadcast on local community calendars at a later date. The public will be given opportunities to participate through workshops and open house meetings throughout the planning process to work collaboratively with BLM in identifying the full range of issues to be addressed in the plan amendment and EIS and developing alternatives to be analyzed in the EIS.

ADDRESSES: Comments regarding the Fire, Fuels and Related Vegetation Management Direction Plan Amendment should be sent to: Project Manager, Bureau of Land Management, Pocatello Field Office, 1111 N. 8th Avenue, Pocatello Idaho 83201. Comments, including names and street addresses of respondents, will be available for public review at the above address during regular business hours 7:45 a.m. to 4:30 p.m., Monday through Friday, except holidays, and may be published as part of the EIS. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

FOR FURTHER INFORMATION CONTACT: Terry Smith, Project Manager, Pocatello Field Office, 1111 N. 8th Avenue, Pocatello Idaho 83201, (208) 478-6340.

SUPPLEMENTARY INFORMATION: The proposed plan amendments would: (1) Establish resource area-wide objectives for fire, fuels, and related vegetation management direction, (2) delineate fire management areas, (3) identify broad vegetation treatments, and (4) identify general restrictions on fire management practices. Anticipated issues for the plan amendments include: protection of human life, protection of property, protection of natural/cultural resources, integration of fire and resource management, air quality, and wildlife habitat. The planning process for this Fire Management Direction Plan Amendment will utilize a collaborative approach. This will allow the public, Tribes, State and Federal agencies, local elected officials, and BLM subject matter specialists to participate in scoping and the development and analysis of alternatives. Public scoping to identify specific issues to be addressed in the plan will be an early opportunity for the public to provide input. Subsequent opportunities for public involvement will occur at specific stages in the planning process.

Agency representatives and interested persons are invited to visit with Upper Snake River District officials at any time during the EIS process. In addition, two specific time periods are identified for the receipt of formal comments. The two comment periods are, (1) during the scoping process (60 days following publication of this Notice in the Federal Register) and, (2) during the formal review period of the Draft EIS.

Dated: January 7, 2002.
James E. May,
Upper Snake River District Manager.

[FR Doc. 02-4153 Filed 2-20-02; 8:45 am]

BILLING CODE 4310-GG-P